DEPARTMENT OF COMMERCE

National Oceanic and Atmospheric Administration

RIN 0648-XC09

Marine Mammals; File No. 10028

AGENCY: National Marine Fisheries Service (NMFS), National Oceanic and Atmospheric Administration (NOAA), Commerce.

ACTION: Notice; receipt of application.

SUMMARY: Notice is hereby given that Mystic Aquarium, 55 Coogan Boulevard, Mystic, CT 06355 (Dr. Lisa Mazzaro, Principal Investigator), has applied in due form for a permit to obtain stranded, releasable pinnipeds (up to eight otariids and 20 phocids) from the National Marine Mammal Stranding Response Program for the purposes of public display.

DATES: Written, telefaxed, or e-mail comments must be received on or before September 17, 2007.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10028.

FOR FURTHER INFORMATION CONTACT: Jennifer Skidmore or Amy Sloan, (301)713-2289.

SUPPLEMENTARY INFORMATION: The subject permit is requested under the authority of the Marine Mammal Protection Act of 1972, as amended (MMPA; 16 U.S.C. 1361 et seq.), and the regulations governing the taking and importing of marine mammals (50 CFR part 216).

Mystic Aquarium is requesting a permit to take releasable stranded pinnipeds. Six females and two males of each species over a five-year period for a maximum of eight otariids and 20 phocids are being requested. Species for consideration include California sea lions (Zalophus californianus), harbor seals (Phoca vitulina), grey seals (Halichoerus grypus), harp seals (Phoca groenlandica) and hooded seals (Cystophora cristata) from stranding facilities located on the Alaskan coast, west coast and northeast coast of the United States. The purpose of this activity is to increase our current population of pinnipeds for public display and opportunistic non-intrusive research. Mystic Aquarium will always consider taking a non-releasable animal first and each animal will be evaluated on a case by case basis. There will be no non-target marine mammal or ESA-listed species that will be incidentally taken during these activities. The permit is requested for five years.

Concurrent with the publication of this notice in the Federal Register, NMFS is forwarding copies of this application to the Marine Mammal Commission and its Committee of Scientific Advisors.

Dated: August 13, 2007.
P. Michael Payne,
Chief, Permits, Conservation and Education Division, Office of Protected Resources, National Marine Fisheries Service.

[FR Doc. E7-16237 Filed 8-16-07; 8:45 am]

BILLING CODE 3510-22-S